DEPARTMENT OF THE INTERIOR

Bureau of Land Management

[WY-930-03-1610-DQ]

Notice of Availability of Final Environmental Impact Statement and the Proposed Snake River Resource Management Plan

AGENCY: Bureau of Land Management, Interior.

ACTION: Notice of Availability (NOA) of a Final Environmental Impact Statement (FEIS) and the Proposed Snake River Resource Management Plan (RMP), Wyoming.

SUMMARY: In accordance with the National Environmental Policy Act (NEPA), the Bureau of Land Management (BLM) announces the availability of the FEIS and the Proposed Snake River RMP.

The FEIS describes and analyzes options for managing approximately 981 acres of public land and 15,123 acres of Federal mineral estate in Teton County, northwestern Wyoming. The FEIS documents the direct, indirect, and cumulative environmental impacts of six management alternatives for BLM-administered public lands near, or adjacent to, the Snake River. The completed RMP will fulfill the obligations set forth by the NEPA, Federal Land Policy and Management Act (FLPMA), and Federal regulations.

DATES: The Proposed Snake River RMP and FEIS will be available for review for 30 calendar days from the date the Environmental Protection Agency (EPA) publishes its NOA in the Federal Register. Under the provisions of 43 Code of Federal Regulations (CFR) 1610.5 protest of a proposed BLM RMP must be filed with the Director in accordance with the instructions described in the FEIS and included in the supplemental information section of this notice. Protest of the proposed Snake River RMP will be accepted no later than 30 calendar days from the date the EPA publishes its NOA in the Federal Register.

ADDRESSES: A copy of the FEIS has been sent to affected Federal, State, local government agencies, and to interested parties. The document will be available electronically on the following Web site: http://www.wy.blm.gov/srrmp/index.htm. Copies of the FEIS will be available for public inspection at the following locations:

• Bureau of Land Management, Wyoming State Office, 5353 Yellowstone Road, Cheyenne, Wyoming 82009

• Bureau of Land Management, Pinedale Field Office, 432 S. Mill St., Pinedale, Wyoming 82941

FOR FURTHER INFORMATION CONTACT: Contact Ms. Kellie Roadifer, Project Manager, BLM Pinedale Field Office, 432 S. Mill Street, P.O. Box 768, Pinedale, Wyoming 82941, or electronically to pinedale wymail@blm.gov with “Attention: Snake River RMP” in the subject line. Ms. Roadifer may also be reached at (307) 367-5309.

SUPPLEMENTARY INFORMATION: The BLM-administered public lands and mineral estate in the planning area currently do not have an approved land use plan. Upon approval, the Snake River RMP would establish management direction for the surface and mineral estates and associated resources administered by the BLM near Jackson, Wyoming. The public lands and Federal mineral resources analyzed are those administered by the BLM Pinedale Field Office.

The FEIS describes the physical, biological, cultural, historic, and socioeconomic resources in and around the surrounding planning area. The focus for impact analysis was based on resource issues and concerns identified during scoping and public involvement activities and opportunities. Potential impacts of concern regarding possible management direction and planning decisions (not in priority order) are: multi-agency and interagency cooperative management; recreation opportunities along the Snake River; availability and development of construction mineral materials; and land ownership (land tenure) pattern. The primary issues driving alternative development are: mineral development; visitor health and safety; recreation management; wildlife habitat; open space; land use authorizations; and land tenure adjustment.

Six alternatives were analyzed in detail:

1. Alternative A, Continuation of Existing Management Direction or the “No Action” Alternative;

2. Alternative B, Reduced Land Use Restrictions with Higher Levels of Mineral Development and Recreation;

3. Alternative C, Continuation of Existing Management Direction with Reduced Motor Vehicle Access, Increased Wildlife Habitat Protection and Solitude Opportunities, and Possible Consolidation of Public Land Parcels;

4. Alternative D, Disposal of Lands Currently Administered by the BLM;

5. Alternative E, Limited Disposal or Exchange of Lands Currently Administered by the BLM, and

6. Proposed Plan, Transfer of Public Land Parcels To Another Federal Land Management Agency or Disposal of Public Land to Other Governmental Entities With Conveyance Contingent on Continuation of RMP Management Direction.

Background information and maps used in developing the final RMP EIS are available for public viewing at the Pinedale Field Office.

If adopted, this proposed RMP does not authorize any land uses or site-disturbing activities. Decisions regarding these site-specific implementation activities are subject to further NEPA analysis and appeal, as provided by applicable regulations.

Protest Instructions: Publication of this EIS prepared for a RMP affords the public the opportunity to protest. Instructions for filing a protest with the Director of the BLM regarding the State Director's proposed Snake River RMP may be found at 43 CFR 1610.5. Any person who participated in the planning process, has an interest, or may be adversely affected by the approval of the proposed RMP, may protest such approval. The protest must be in writing and must be filed with the Director. The protest must be filed within 30 days from the date the EPA publishes its NOA in the Federal Register. The protest must contain:

i. The name, mailing address, telephone number, and interest of the person filing the protest;

ii. A statement of the issue or issues being protested;

iii. A statement of the part, or parts, of the plan or amendment being protested;

iv. A copy of all documents addressing the issue, or issues, that were submitted during the planning process by the protesting party or an indication of the date the issue, or issues, were discussed for the record; and

v. A concise statement explaining why the State Director's decision is believed to be wrong.

E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and e-mails to Brenda_Hudgens-Williams@blm.gov

The Director will respond to protests. The response will be in writing and will be sent to the protesting party by certified mail, return receipt requested. The decision of the Director will be the final decision for the Department of the Interior.

Protest Filing Addresses: Protests submitted electronically will not be accepted. File written protests by Surface Mail: U.S. Department of the Interior, Bureau of Land Management, Director (210), Attn: Ms. Brenda Williams, Protest Coordinator, P.O. Box 66538, Washington DC 20035 or overnight (WO-210), 1620 L Street, NW., Room 1075, Washington, DC 20036.

Alan Kesterke,
Associate State Director.

[FR Doc. 03-24154 Filed 9-25-03; 8:45 am]

BILLING CODE 4310-22-M